DEPARTMENT OF COMMERCE

National Oceanic and Atmospheric Administration

[RTID 0648-XB276]

Endangered and Threatened Species; Take of Anadromous Fish

AGENCY: National Marine Fisheries Service (NMFS), National Oceanic and Atmospheric Administration (NOAA), Commerce.

ACTION: Notice; issuance of 23 scientific research permits.

SUMMARY: Notice is hereby given that NMFS has issued 23 scientific research permits under the Endangered Species Act (ESA) to the individuals and organizations listed in Table 1. The research is intended to increase knowledge of species listed under the ESA and to help guide management and conservation efforts.

ADDRESSES: Permits and related documents are available for review upon written request via email to nmfs.wcr-apps@noaa.gov (please include the permit number in the subject line of the email).

FOR FURTHER INFORMATION CONTACT: Rob Clapp, Portland, OR (phone: 503-231-2314), fax: 503-230-5441, email: Robert.Clapp@noaa.gov).

SUPPLEMENTARY INFORMATION: Table 1 provides a list of notifications for requests for permits and permit modifications and the submitting applicants that were published in the Federal Register on the dates listed. To locate the Federal Register notification that announced our receipt of the applications and a complete description of the research, go to www.federalregister.gov and search on the permit number.

Table 1—Issued Permits and Permit Modifications
Permit No. | RTID | Applicant | Previous Federal Register notification | Issuance date
1415-5R | 0648-XA873 | U.S. Fish and Wildlife Service; 10950 Tyler Road, Red Bluff, CA 96080 (Responsible Party: Matt Brown) | 86 FR 9490; February 16, 2021 | June 17, 2021.
1440-3R | 0648-XA873 | Interagency Ecological Program; 2109 Arch Airport Road, Suite 100, Stockton, CA 95206 (Responsible Party: Stephanie Fong) | 86 FR 9490; February 16, 2021 | May 12, 2021.
13675-3R | 0648-XA873 | Fishery Foundation of California; 8698 Elk Grove BLVD., Suite 3, Elk Grove, CA 95624 (Responsible party: Karen Lynne Burr) | 86 FR 9490; February 16, 2021 | May 4, 2021.
15486-3R | 0648-XA873 | West Fork Environmental, Inc.; 2350 Mottman Rd. SW, Olympia, WA 98501 (Responsible Party: N. Phil Peterson) | 86 FR 9490; February 16, 2021 | April 16, 2021.
15549-3R | 0648-XA873 | Columbia River Inter-Tribal Fish Commission; 700 NE Oregon St., Suite 1200 (Responsible Party: Ryan Branstetter) | 86 FR 9490; February 16, 2021 | May 24, 2021.
15611-3R | 0648-XA873 | Washington Department of Fish and Wildlife (WDFW); 600 Capitol Way N, Olympia, WA 98502 (Responsible Party: Bryce Glaser) | 86 FR 9490; February 16, 2021 | May 18, 2021.
16274-2R | 0648-XA873 | Mendocino Redwood Company; P.O. Box 390, Calpella, CA 95418 (Responsible Party: David Ulrich) | 86 FR 9490; February 16, 2021 | May 4, 2021.
17077-3R | 0648-XA873 | University of California at Davis (UC Davis); One Shields Ave., Davis, CA 95616 (Responsible Party: John Durand) | 86 FR 9490; February 16, 2021 | May 12, 2021.
17219-3R | 0648-XA873 | NMFS's Southwest Fisheries Science Center (SWFSC); 110 McAllister Way, Santa Cruz, CA 95060-5730 (Responsible Party: Steve Lindley) | 86 FR 9490; February 16, 2021 | May 4, 2021.
17351-2R | 0648-XA873 | Green Diamond Resource Company; P.O. Box 68, Korbel, CA 95550 (Responsible Party: Jason Carlson) | 86 FR 9490; February 16, 2021 | May 24, 2021.
18696-5M | 0648-XA873 | Idaho Power; P.O. Box 70, Boise, ID 83707 (Responsible Party: James Chandler) | 86 FR 9490; February 16, 2021 | April 1, 2021.
18908-2R | 0648-XA873 | Skagit Fisheries Enhancement Group (SFEG); P.O. Box 2497, Mount Vernon, WA 98273 (Responsible Party: Alison Studley) | 86 FR 9490; February 16, 2021 | May 19, 2021.
19320-2R | 0648-XA873 | The SWFSC; 110 McAllister Way, Santa Cruz, CA 95060-5730 (Responsible Party: Steve Lindley) | 86 FR 9490; February 16, 2021 | March 31, 2021.
19738-2R | 0648-XA873 | Washington Department of Natural Resources; 919 N Township St., Sedro Woolley, WA 98284 (Responsible Party: Chris Danilson) | 86 FR 9490; February 16, 2021 | April 6, 2021.
19741-2R | 0648-XA873 | Confederated Tribes and Bands of Yakama Nation; 401 Fort Rd., Toppenish, WA 98948 (Responsible Party: Chairman Delano Saluskin) | 86 FR 9490; February 16, 2021 | July 1, 2021.
22482-2R | 0648-XA873 | NMFS's Northwest Fisheries Science Center (NWFSC); 2725 Montlake Blvd. East, Seattle, WA 98112-2097 (Responsible Party: Cathy Laetz) | 86 FR 9490; February 16, 2021 | March 31, 2021.
23029-2R | 0648-XA873 | The NWFSC; 2725 Montlake Blvd. East, Seattle, WA 98112-2097 (Responsible Party: Cathy Laetz) | 86 FR 9490; February 16, 2021 | April 5, 2021.
23649-2M | 0648-XA873 | Mount Hood Environmental; P.O. Box 744, Boring, OR 97009 (Responsible Party: Ian Courter) | 86 FR 9490; February 16, 2021 | March 31, 2021.
24151 | 0648-XA873 | U.S. Forest Service—Pacific Northwest Research Station; 3200 SW Jefferson Way, Corvallis, OR 97331 (Responsible Party: Rebecca Flitcroft) | 86 FR 9490; February 16, 2021 | March 31, 2021.
24367 | 0648-XA873 | The NWFSC; 2725 Montlake Blvd. East, Seattle, WA 98112-2097 (Responsible Party: Genoa Sullaway) | 86 FR 9490; February 16, 2021 | April 5, 2021.
25409 | 0648-XA873 | Oregon State University—Department of Fisheries and Wildlife; 104 Nash Hall, Corvallis, OR 97331 (Responsible Party: Francisco Pickens) | 86 FR 9490; February 16, 2021 | March 31, 2021.
25463 | 0648-XA873 | Moss Landing Marine Labs; 7544 Sandholdt Rd., Moss Landing, CA 95039 (Responsible Party: Wes Heim) | 86 FR 9490; February 16, 2021 | April 28, 2021.
25466 | 0648-XA873 | TRPA Fish Biologists; 890 L Street, Arcata, CA 95521 (Responsible Party: Tim Salamunovich) | 86 FR 9490; February 16, 2021 | May 3, 2021.

In compliance with the National Environmental Policy Act of 1969 (42 U.S.C. 4321 et seq.), a final determination has been made that the activities proposed are categorically excluded from the requirement to prepare an environmental assessment or environmental impact statement.

Authority

Scientific research permits are issued in accordance with section 10(a)(1)(A) of the ESA (16 U.S.C. 1531 et seq.) and regulations governing listed fish and wildlife permits (50 CFR 222-226). NMFS issues permits based on finding that such permits: (1) Are applied for in good faith; (2) if granted and exercised, would not operate to the disadvantage of the listed species that are the subject of the permit; and (3) are consistent with the purposes and policy of section 2 of the ESA. The authority to take listed species is subject to conditions set forth in the permits.

Dated: July 26, 2021.
Margaret Miller,
Acting Chief, Endangered Species Division, Office of Protected Resources, National Marine Fisheries Service.

[FR Doc. 2021-16171 Filed 7-28-21; 8:45 am]

BILLING CODE 3510-22-P